FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than September 10, 2020.

A. Federal Reserve Bank of Chicago (Colette A. Fried, Assistant Vice President) 230 South LaSalle Street, Chicago, Illinois 60690-1414:

1. Graham A. Werner Descendants Trust, Graham A. Werner, as trustee, Graham A. and Barbara B. Werner Revocable Trust, Graham A. Werner and Barbara B. Werner, as trustees, Barbara B. Werner, all of Naples, Florida; Michael D. Werner Declaration of Trust, Michael D. Werner as trustee, both of Key West, Florida; Lisbeth W. Bax Stock Trust, Lisbeth Bax, as trustee, Jeffrey Werner, all of Appleton, Wisconsin; David Werner, Neenah, Wisconsin; Ann Kreiter, Oak Park, Illinois; Gregory Werner, Barrington, Illinois; Jonathan Bax, Louisville, Kentucky; Ryan Werner Bille, Eden Prairie, Minnesota; Judson Werner, Waupun, Wisconsin; Brooke Werner, Nathan Werner, both of Waupaca, Wisconsin; Hunt Werner, Charlotte, North Carolina; Andrew Bax, Pensacola, Florida; and Lindsey Bax, Huntsville, Alabama; as a group acting in concert, to join the Werner Family Control Group and retain voting shares of First State Bancshares, Inc., and thereby indirectly retain voting shares of First State Bank, both of New London, Wisconsin.

B. Federal Reserve Bank of Minneapolis (Chris P. Wangen, Assistant Vice President), 90 Hennepin Avenue, Minneapolis, Minnesota 55480-0291:

1. The Ella Elizabeth Meyerson 2008 Irrevocable GST Trust dated December 22, 2008, Atwater, Minnesota; Ella Meyerson and David A. Gutzke, as trustees, both of Minneapolis, Minnesota; the Ella E. Meyerson Revocable Trust, u/a/d September 23, 2011, and Ella Meyerson, as trustee, both of Minneapolis, Minnesota; to retain and acquire voting shares of Cattail Bancshares, Inc., Atwater, Minnesota, and thereby retain and acquire voting shares of Harvest Bank, Kimball, Minnesota, and Citizens State Bank of Waverly (Incorporated), Waverly, Minnesota, and, as a group acting in concert, to join the Meyerson family shareholder group, which controls voting shares of Cattail Bancshares, Inc.

C. Federal Reserve Bank of St. Louis (David L. Hubbard, Senior Manager) P.O. Box 442, St. Louis, Missouri 63166-2034. Comments can also be sent electronically to Comments.applications@stls.frb.org:

1. Aaron C. Espinoza, individually and as owner of ACE Investments LLC, Newburg, Missouri; and Kyle Espinoza, Mount Juliet, Tennessee, as members of a family control group that includes Charles G. Bollinger, Hernando, Florida (in his capacities as the trustee of the Charles G. Bollinger Revocable Trust, Rolla, Missouri, Velma Bollinger Marital Trust, and general partner of the Faith Limited Partnership, both of Springfield, Missouri); to retain voting shares of Newburg Insurance Agency, Inc., Rolla, Missouri.

Board of Governors of the Federal Reserve System, August 21, 2020.
Yao-Chin Chao,
Assistant Secretary of the Board.

[FR Doc. 2020-18782 Filed 8-25-20; 8:45 am]

BILLING CODE P